SOCIAL SECURITY ADMINISTRATION

[Docket No. SSA-2023-0033]

Notice of Senior Executive Service Performance Review Board Membership

AGENCY: Social Security Administration.

ACTION: Notice of Senior Executive Service Performance Review Board Membership.

Authority: Title 5, U.S. Code, 4314 (c)(4), requires that the appointment of Performance Review Board members be published in the Federal Register before service on said Board begins.

The following persons will serve on the Performance Review Board which oversees the evaluation of performance appraisals of Senior Executive Service members of the Social Security Administration:

Florence Felix-Lawson, Chair

Antoinette Amrhein

Jeffrey Buckner

Djimy Chapron

Vikash Chhagan

Daniel Callahan *

Doris Diaz

Christopher Harris *

Jose (Joe) Lopez

Kristen Medley-Proctor

Jatin (Jim) Parikh

Claudia Postell*

Dawn Wiggins

* New Member

Darlynda K. Bogle,
Deputy Commissioner for Human Resources.

[FR Doc. 2023-18613 Filed 8-28-23; 8:45 am]

BILLING CODE 4191-02-P